DEPARTMENT OF EDUCATION

Gainful Employment Reporting Deadline Date for the 2011-2012 Award Year

AGENCY: Federal Student Aid, Department of Education.

ACTION: Notice.

SUMMARY: The Secretary announces the deadline date for the receipt of information from institutions for programs that prepare students for gainful employment in a recognized occupation and that are eligible to participate in the Federal student assistance programs authorized under title IV of the Higher Education Act of 1965, as amended (HEA), for the 2011-2012 award year. These are Student Assistance General Provisions, Federal Supplemental Educational Opportunity Grant, Federal Work-Study, Federal Perkins Loan, Federal Pell Grant, William D. Ford Federal Direct Loan, Teacher Education Assistance for College and Higher Education Grant, and Iraq and Afghanistan Service Grant programs.

DATES: Deadline Date: October 15, 2012.

SUPPLEMENTARY INFORMATION: The regulations at 34 CFR 668.6 provide the reporting and disclosure requirements for programs that prepare students for gainful employment in recognized occupations. The regulations at 34 CFR 668.6(a)(1) identify the information that institutions are required to report.

The regulations at 34 CFR 668.6(a)(2)(i)(C) provide that an institution must report gainful employment information from the most recently completed award year no earlier than September 30, but no later than the date established by the Secretary through a notice published in the Federal Register. Accordingly, through this notice, the Secretary announces that institutions must report the information required under 34 CFR 668.6(a)(1) for the 2011-2012 award year no later than October 15, 2012.

FOR FURTHER INFORMATION CONTACT: Rene Tiongquico, U.S. Department of Education, Federal Student Aid, 830 First Street NE., Union Center Plaza, room 113H1, Washington, DC 20202-5345. Telephone: (202) 377-4270.

If you use a telecommunications device for the deaf (TDD) or a text telephone (TTY), call the Federal Relay Service (FRS), toll free, at 1-800-877-8339.

Individuals with disabilities can obtain this document in an accessible format (e.g., Braille, large print, audiotape, or compact disc) on request to the program contact person listed in this section.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature at this site, you can limit your search to documents published by the Department.

Program Authority: 20 U.S.C. 1001(b), 1002(b), 1002(c),1070a, 1070b-1070b-4, 1070g, 1087a-1087j, and 1087aa-1087ii; 42 U.S.C. 2751-2756b.

Dated: March 6, 2012.
James W. Runcie,
Chief Operating Officer, Federal Student Aid.

[FR Doc. 2012-6363 Filed 3-14-12; 8:45 am]

BILLING CODE 4000-01-P